DEPARTMENT OF TRANSPORTATION

Federal Highway Administration

Federal Transit Administration

[FTA/FHWA Docket No. FTA-2000-7171]

Notice of Request for the Extension of Currently Approved Information Collections

AGENCIES: Federal Transit Administration (FTA), Federal Highway Administration (FHWA), DOT.

ACTION: Notice of request for comments.

SUMMARY: In accordance with the Paperwork Reduction Act of 1995, this notice announces the intention of the FTA and FHWA to request the Office of Management and Budget (OMB) to extend the following currently approved information collection: Metropolitan and Statewide Transportation Planning.

DATES: Comments must be submitted before June 6, 2000.

ADDRESSES: All written comments must refer to the docket number that appears at the top of this document and be submitted to the United States Department of Transportation, Central Dockets Office, PL-401, 400 Seventh Street, SW, Washington, DC 20590. All comments received will be available for examination at the above address from 10:00 a.m. to 5:00 p.m., e.t., Monday through Friday, except federal holidays. Those desiring notification of receipt of comments must include a self-addressed, stamped postcard/envelope.

FOR FURTHER INFORMATION CONTACT: Mr. Robert Stout, FTA, (202) 366-1628 or Mr. Sheldon Edner, FHWA, (202) 366-4066.

SUPPLEMENTARY INFORMATION: Interested parties are invited to send comments regarding any aspect of this information collection, including: (1) The necessity and utility of the information collection for the proper performance of the functions of the FTA and the FHWA; (2) the accuracy of the estimated burden; (3) ways to enhance the quality, utility, and clarity of the collected information; and (4) ways to minimize the collection burden without reducing the quality of the collected information. Comments submitted in response to this notice will be summarized and/or included in the request for OMB reinstatement of this information collection.

Title: Metropolitan and Statewide Transportation Planning (OMB Number: 2132-0529).

Background: The FTA and FHWA jointly carry out the Federal mandate to improve urban and rural transportation. 49 U.S.C. 5303-5306 and 23 U.S.C. 134 and 135 require metropolitan planning organizations (MPOs) and States to develop transportation plans and programs. The information collection activities involved in developing the Unified Planning Work Program (UPWP), the Metropolitan Transportation Plan, the Statewide Transportation Plan, the Metropolitan Transportation Improvement Program (TIP), and the Statewide Transportation Improvement Program (STIP) are necessary to identify and evaluate the transportation issues and needs in each urbanized area and throughout every State. These products of the transportation planning process are essential elements in the reasonable planning and programming of federally-funded transportation investments.

In addition to serving as a management tool for MPOs and State DOTs, the UPWP is used by both FTA and FHWA to oversee the expenditure of federal transportation planning funds and to monitor the transportation planning activities of those agencies. It is also needed to develop policy on using funds, monitor State and local compliance with national technical emphasis areas, respond to congressional inquiries, prepare congressional testimony, and ensure efficiency in the use and expenditure of federal funds by determining that planning proposals are both reasonable and cost-effective. 49 U.S.C. Section 5304 and 23 U.S.C. 134(h) require the development of TIPs for urbanized areas; STIPS are mandated by 23 U.S.C. 135(f). After approval by the Governor and MPO, metropolitan TIPs in air quality attainment areas are to be incorporated directly into the STIP. For nonattainment areas, FTA/FHWA must make a conformity finding on the TIPs before including them into the STIP. The complete STIP is then jointly reviewed and approved or disapproved by FTA and FHWA. These conformity findings and approval actions constitute the determination that States are complying with the requirements of 23 U.S.C.135 and 49 U.S.C. Section 5303 as a condition of eligibility for federal-aid funding. Without these documents, approvals and findings, capital and/or operating assistance, cannot be provided.

Respondents: State Departments of Transportation (DOTs) and Metropolitan Planning Organizations (MPOs).

Estimated Annual Burden on Respondents: 646 hours for each of the 392 respondents.

Estimated Total Annual Burden: 253,250 hours.

Frequency: Annually and biennially.

Issued: April 3, 2000.
Dorrie Y. Aldrich,
FTA Associate Administrator for Administration.

Dated: April 3, 2000.
Michael J. Vecchietti,
FHWA Acting Director of Administration.

[FR Doc. 00-8506 Filed 4-6-00; 8:45 am]

BILLING CODE 4910-57-P